FEDERAL COMMUNICATIONS COMMISSION

[Report No. 2817]

Petition for Reconsideration of Action in Rulemaking Proceeding

May 30, 2007.

A Petition for Reconsideration has been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to this petition must be filed by June 21, 2007. See Section 1.4(b)(1) of the Commission's rules (47 CFR 1.4(b)(1)). Replies to an opposition must be filed within 10 days after the time for filing oppositions have expired.

Subject: In the Matter of Implementation of Sections 309(j) and 337 of Commissions Act of 1934 as Amended (WT Docket No. 99-87).

Promotion of Spectrum Efficient Technologies on Certain Part 90 Frequencies (RM-9332).

Number of Petitions Filed: 1.

Marlene H. Dortch,
Secretary.

[FR Doc. E7-10900 Filed 6-5-07; 8:45 am]

BILLING CODE 6712-01-P